SMALL BUSINESS ADMINISTRATION

[Disaster Declaration # 10027 and # 10028]

California Disaster # CA-00003

AGENCY: U.S. Small Business Administration.

ACTION: Notice.

SUMMARY: This is a Notice of an Administrative declaration of a disaster for the State of California, dated February 18, 2005.

Incident: Severe Storms, Flooding, Debris Flows, and Mudslides.

Incident Period: December 27, 2004, through January 11, 2005.

EFFECTIVE DATE: February 18, 2005.

Physical Loan Application Deadline Date: April 19, 2005.

EIDL Loan Application Deadline Date: November 18, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration, applications for disaster loans may be filed at the address listed above or other locally announced locations.

The following areas have been determined to be adversely affected by the disaster:

Primary Counties

San Bernardino.

Contiguous Counties

California

Inyo, Kern, Los Angeles, Orange, and Riverside.

Arizona

La Paz and Mohave.

Nevada

Clark.

The Interest Rates are:

| Percent
Homeowners with credit available elsewhere | 5.875
Homeowners without credit available elsewhere | 2.937
Businesses with credit available elsewhere | 5.800
Businesses and Small Agricultural Cooperatives without credit available elsewhere | 4.000
Other (Including Non-Profit Organizations) with credit available elsewhere | 4.750
Businesses and Non-Profit Organizations without credit available elsewhere | 4.000

The number assigned to this disaster for physical damage is 10027B and for economic injury is 100280.

The States which received EIDL Decl# are California, Arizona and Nevada.

(Catalog of Federal Domestic Assistance Numbers 59002 and 59008)
Dated: February 18, 2005.
Hector V. Barreto,
Administrator.

[FR Doc. 05-3819 Filed 2-25-05; 8:45 am]

BILLING CODE 8025-01-P